DEPARTMENT OF LABOR

Mine Safety and Health Administration

Petitions for Modification of Application of Existing Mandatory Safety Standards

AGENCY: Mine Safety and Health Administration, Labor.

ACTION: Notice.

SUMMARY: This notice is a summary of petitions for modification submitted to the Mine Safety and Health Administration (MSHA) by the parties listed below.

DATES: All comments on the petitions must be received by MSHA's Office of Standards, Regulations, and Variances on or before August 25, 2017.

ADDRESSES: You may submit your comments, identified by “docket number” on the subject line, by any of the following methods:

1. Electronic Mail: zzMSHA-comments@dol.gov. Include the docket number of the petition in the subject line of the message.

2. Facsimile: 202-693-9441.

3. Regular Mail or Hand Delivery: MSHA, Office of Standards, Regulations, and Variances, 201 12th Street South, Suite 4E401, Arlington, Virginia 22202-5452, Attention: Sheila McConnell, Director, Office of Standards, Regulations, and Variances. Persons delivering documents are required to check in at the receptionist's desk in Suite 4E401. Individuals may inspect copies of the petitions and comments during normal business hours at the address listed above.

MSHA will consider only comments postmarked by the U.S. Postal Service or proof of delivery from another delivery service such as UPS or Federal Express on or before the deadline for comments.

FOR FURTHER INFORMATION CONTACT: Barbara Barron, Office of Standards, Regulations, and Variances at 202-693-9447 (Voice), barron.barbara@dol.gov (Email), or 202-693-9441 (Facsimile). [These are not toll-free numbers.]

SUPPLEMENTARY INFORMATION: Section 101(c) of the Federal Mine Safety and Health Act of 1977 and Title 30 of the Code of Federal Regulations Part 44 govern the application, processing, and disposition of petitions for modification.

I. Background

Section 101(c) of the Federal Mine Safety and Health Act of 1977 (Mine Act) allows the mine operator or representative of miners to file a petition to modify the application of any mandatory safety standard to a coal or other mine if the Secretary of Labor determines that:

1. An alternative method of achieving the result of such standard exists which will at all times guarantee no less than the same measure of protection afforded the miners of such mine by such standard; or

2. That the application of such standard to such mine will result in a diminution of safety to the miners in such mine.

In addition, the regulations at 30 CFR 44.10 and 44.11 establish the requirements and procedures for filing petitions for modification.

II. Petitions for Modification

Docket Number: M-2017-013-C.

Petitioner: Texas Westmoreland Coal Company, P.O. Box 915, Jewett, Texas 75846.

Mine: Jewett Mine, MSHA I.D. No. 41-03164, located in Leon County, Texas.

Regulation Affected: 30 CFR 77.803 (Fail safe ground check circuits on high-voltage resistance grounded systems).

Modification Request: The petitioner requests a modification of the existing standard for use of a special procedure when the dragline boom/mast is raised or lowered during necessary repairs/dismantling. The petitioner states that:

(1) Texas Westmoreland Coal Company realizes that some stages of assembly/disassembly of draglines require special consideration when the boom/mast is raised/lowered into position. The boom is raised/lowered utilizing the on board motor generator sets. This is critical because, during the process, power to the machine must not be interrupted. Power loss conditions may result in the boom becoming uncontrolled, falling, and resulting in possible injuries to workers. To address this condition, the following guidelines will be implemented to help prevent loss of power to the machine. This procedure only addresses raising/lowering the boom on draglines utilizing the machines electrical onboard motor generator sets. It does not replace other mechanical precautions or the requirements of 30 CFR 77.803 that are necessary to safely secure booms/masts during construction or maintenance procedures.

(2) The following is a procedure for “boom raising” or “boom lowering” at Texas Westmoreland Coal Company's Jewett Mine. During this period of construction/maintenance, the machine will not be performing mining operations. This procedure would also be applicable in instances of disassembly or maj9or maintenance which requires the boom to be raised/lowered. The following guidelines will be followed to minimize the potential for electrical power loss during this critical boom procedure.

(3) The procedure would most likely only be used during disassembly or major maintenance. Major maintenance requiring the raising/lowering of the boom/mast would only be performed on an as-needed basis, which could span long periods of time. Therefore, training and review of the procedure would only be conducted prior to this need. At such time, all persons involved in the procedure would be trained or retrained.

(a) Texas Westmoreland Coal Company employees, its contractors, and affected persons will be trained on the requirements of the procedure at the Jewett Mine.

(b) The procedure will be coordinated by Texas Westmoreland Coal Company's Production Superintendent and, if present, the contractor's representative will assist. Two (2) MSHA qualified electricians will be present at all times during the procedure.

(c) The procedure will limit the number of persons required on board the machine. An MSHA-qualified electrician, dragline operator, and the dragline oiler will be permitted on the machine. Texas Westmoreland Coal Company's production Superintendent and contractor's representative may either be on board or at a location on the ground to assist in the coordination.

(d) The affected area under the boom will be secured to prevent persons from entering and/or contacting the frame of the machine during the boom raising/lowering. The area will be secured and only those persons identified in paragraph 3 above will be permitted inside the secured area. At no time will anyone be permitted under the boom or close to the boom.

(e) Communication between the dragline operator, the MSHA-qualified electrician at the dragline, the MSHA-qualified electrician at the substation, Texas Westmoreland Coal Company's Production Superintendent, and the contractor's representative, if present, will be by a dedicated channel on the company's two-way radio.

(f) An MSHA-qualified electrician will complete an examination of all electrical components that will be energized. The examination will be done within two (2) hours prior to the boom raising/lowering process. A record of this examination will be made and available to interested parties. The machine will be de-energized to perform this examination.

(g) After the examination has been completed, the electrical components necessary to complete the boom raising/lowering process will be energized to ensure they are operating properly as determined by an MSHA-qualified electrician. When the above is completed, the machine will be de-energized and locked out.

(h) The ground fault and ground check circuits will be disabled provided:

1. The internal ground conductor of the trailing cable has been tested and is continuous from the frame of the dragline to the grounding resistor located at the substation. Utilizing the ground check circuit and disconnecting the pilot circuit at the machine frame and verifying the circuit breaker cannot be closed will be an acceptable test. Resistance measurements can also be used to test the ground conductor. The grounding resistor will be tested to assure it is properly connected, is not open, or is not shorted.

2. Normal short circuit protection will be provided at all times. The over current relay setting may be increased up to 100 percent above its normal setting.

(i) During the boom raising/lowering procedure, an MSHA-qualified electrician will be positioned at the substation to monitor the grounding circuit. The MSHA- qualified electrician at the substation will at all times maintain communications with an MSHA qualified electrician at the dragline. If a grounded phase condition or an open ground wire should occur during the process, the MSHA-qualified electrician at the substation will notify the MSHA-qualified electrician at the dragline. All persons on board the machine must be aware of the condition and must remain on board the machine. The boom must be lowered to the ground or controlled and the electrical circuit de-energized, locked and tagged out. The circuit must remain de-energized until the condition is corrected. The ground fault and ground check circuits will be reinstalled prior to re-energizing and testing the machine. Once circuits have been tested and no adverse conditions are present, the boom raising/lowering procedure as outlined above will be resumed.

(j) During this construction/maintenance procedure, persons cannot get on/off the dragline while the ground fault ground check circuits are disabled unless the circuit to the dragline is de-energized, locked and tagged out as verified by the MSHA-qualified electrician at the substation.

(k) After the boom raising/lowering is completed, the MSHA-qualified electrician at the substation will restore all the protective devices to their normal state. When this has been completed, the MSHA-qualified electrician at the substation will notify the MSHA-qualified electrician at the dragline that all circuits are in their normal state. At this time, normal work procedures can begin.

The petitioner asserts that the proposed alternative method will always guarantee the miners affected no less than the same measure of protection afforded by the existing standard.

Docket Number: M-2017-002-M.

Petitioner: Martin Marietta Materials, Midwest Division, 11252 Aurora Avenue, Des Moines, Iowa 50322.

Mine: Fort Calhoun Underground Mine, 5765 County Road P 30, Fort Calhoun, Nebraska 68023, MSHA I.D No. 25-01300, located in Washington County, Nebraska.

Regulation Affected: 30 CFR 57.11052(d) (Refuge areas).

Modification Request: The petitioner requests a modification of the existing standard to permit an alternative method of compliance to permit use of bottled water in refuge areas in lieu of waterlines. The petitioner states that:

(1) The Fort Calhoun Underground Mine will soon be developing two parallel decline tunnels to access an identified limestone reserve near Fort Calhoun, Nebraska. The decline tunnels will each be approximately 3,200 feet in length. The tunnels will be spaced roughly 155 feet horizontally between tunnel center lines. Two cross passages are planned to connect the two parallel tunnels during development. The Fort Calhoun Underground Mine will provide a portable prefabricated refuge chamber in each of the two decline tunnels for the purpose of barricading in the event of a mine emergency.

(2) The petitioner seeks modification of 30 CFR 57.11052(d) specifically with the standard's directive that refuge areas be provided with waterlines. The Fort Calhoun Underground Mine will provide waterlines to each of the two aforementioned refuge chambers; however, the installed waterlines will not support a potable water supply.

(3) In lieu of a plumbed potable water supply, potable water will be provided in each of the two refuge chambers in the form of commercially purchased bottled water in sealed bottles.

(4) The two planned portable refuge chambers to be used underground at the Fort Calhoun Underground Mine are each designed to sustain 20 miners for a period of 36 hours under battery backup power. These prefabricated refuge chambers will, at all times, be equipped with waterlines being directly fed from the surface. The waterline supplied to the refuge chamber will not be a source of potable water for miners taking refuge. The reliability of source water quality and volume being fed to the chambers is jeopardized considering water transmission line will be installed in a mining environment and inherently susceptible to mechanical damage or restriction in the event of a mine emergency. Sourcing of water from a surface reservoir to the refuge chambers is affected by climate conditions on the surface. Adversely cold surface temperatures could restrict or cut off the supply of water to the refuge chambers resulting in a diminution of safety. Add-in contaminants (industrial or bacteria) in piped-in water results in a diminution of safety for the miners.

(5) Potable water will be provided in each of the chambers in the form of commercially purchased bottled water in sealed bottles. Each of the two chambers will be provided with a minimum of 2.25 quarts of potable drinking water per person, per day. Considering that each of the chambers are designed to support 20 miners for a period of 36 hours, each chamber will be outfitted with a minimum of 67.5 quarts or 2160 ounces of commercially purchased potable drinking water in sealed bottles. Provisioned water will have a maximum shelf life of 2 years. The condition and quantity of stored water will be confirmed by monthly inspections. Written instructions for conservation of water will also be provided within the refuge chambers for reference.

The petitioner asserts that the proposed alternative method will at all times guarantee no less than the same measure of protection afforded by the existing standard.

Sheila McConnell,
Director, Office of Standards, Regulations, and Variances.

[FR Doc. 2017-15673 Filed 7-25-17; 8:45 am]

BILLING CODE 4520-43-P